NUCLEAR REGULATORY COMMISSION

10 CFR Parts 2, 21, 26, 50, 51, 52, 55, and 73

[NRC-2009-0196]

RIN 3150-AI66

Alignment of Licensing Processes and Lessons Learned From New Reactor Licensing

AGENCY: Nuclear Regulatory Commission.

ACTION: Regulatory basis; request for comment; extension of comment period.

SUMMARY: On January 29, 2021, the U.S. Nuclear Regulatory Commission (NRC) published a document in the Federal Register requesting public comment on a regulatory basis to support a proposed rule that would amend the NRC's regulations for the licensing of new nuclear power reactors. The public comment period was originally scheduled to close on April 14, 2021. The NRC has decided to extend the public comment period to allow more time for members of the public to develop and submit their comments.

DATES: The due date of comments requested in the document published on January 29, 2021 (86 FR 7513), is extended. Comments should be filed no later than May 14, 2021. Comments received after this date will be considered, if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2009-0196. Address questions about NRC dockets to Dawn Forder; telephone: 301-415-3407; email: Dawn.Forder@nrc.gov. For technical questions, contact the individuals listed in the FOR FURTHER INFORMATION CONTACT section of this document.

• Email comments to: Rulemaking.Comments@nrc.gov. If you do not receive an automatic email reply confirming receipt, then contact us at 301-415-1677.

For additional direction on obtaining information and submitting comments, see “Obtaining Information and Submitting Comments” in the SUPPLEMENTARY INFORMATION section of this document.

FOR FURTHER INFORMATION CONTACT: James G. O'Driscoll, Office of Nuclear Material Safety and Safeguards; telephone: 301-415-1325; email: James.ODriscoll@nrc.gov; or Allen Fetter, Office of Nuclear Reactor Regulation; telephone: 301-415-8556; email: Allen.Fetter@nrc.gov. Both are staff of the U.S. Nuclear Regulatory Commission, Washington, DC 20555-0001.

SUPPLEMENTARY INFORMATION:

I. Obtaining Information and Submitting Comments

A. Obtaining Information

Please refer to Docket ID NRC-2009-0196 when contacting the NRC about the availability of information for this action. You may obtain publicly-available information related to this action by any of the following methods:

• Federal Rulemaking Website: Go to https://www.regulations.gov and search for Docket ID NRC-2009-0196.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• Attention: The PDR, where you may examine and order copies of public documents, is currently closed. You may submit your request to the PDR via email at pdr.resource@nrc.gov or call 1-800-397-4209 between 8:00 a.m. and 4:00 p.m. (EST), Monday through Friday, except Federal holidays.

B. Submitting Comments

Please include Docket ID NRC-2009-0196 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons to not include identifying or contact information that they do not want to be publicly disclosed in their comment submission. Your request should state that the NRC does not routinely edit comment submissions to remove such information before making the comment submissions available to the public or entering the comment into ADAMS. Please note that the NRC will not provide formal written responses to each of the comments received on the regulatory basis. However, the NRC will consider all comments received in the rulemaking process.

II. Discussion

On January 29, 2021, the NRC published a document requesting comments on a regulatory basis to support a proposed rule that would amend the NRC's regulations to ensure consistency in new reactor licensing reviews, provide for an efficient new reactor licensing process, reduce the need for exemptions from existing regulations and license amendment requests, address other new reactor licensing issues deemed relevant by the NRC, and support the principles of good regulation, specifically openness, clarity, and reliability. The public comment period was originally scheduled to close on April 14, 2021. The NRC has decided to extend the public comment period on this document until May 14, 2021, to allow more time for members of the public to develop and submit their comments.

Dated: March 12, 2021.
For the Nuclear Regulatory Commission.
Kevin A. Coyne,
Acting Director, Division of Rulemaking, Environmental, and Financial Support, Office of Nuclear Material Safety and Safeguards.

[FR Doc. 2021-05570 Filed 3-17-21; 8:45 am]

BILLING CODE 7590-01-P